DEPARTMENT OF TRANSPORTATION

Federal Aviation Administration

14 CFR Part 73

[Docket No. FAA-2011-1017; Airspace Docket No. 11-ASO-30]

RIN 2120-AA66

Amendment of Time of Designation for Restricted Areas R-5314A, B, C, D, E, F, H, and J; Dare County, NC

AGENCY: Federal Aviation Administration (FAA), DOT.

ACTION: Final rule.

SUMMARY: This action amends the time of designation for restricted areas R-5314A, B, C, D, E, F, H, and J in Dare County, NC, by removing the specific published times on Saturday and Sunday. This change reflects current utilization of the restricted areas and provides increased public access to the area on weekends.

DATES: Effective date 0901 UTC, December 15, 2011.

FOR FURTHER INFORMATION CONTACT: Paul Gallant, Airspace, Regulations and ATC Procedures Group, AJV-11, Office of Airspace Services, Federal Aviation Administration, 800 Independence Avenue, SW., Washington, DC 20591; telephone: (202) 267-8783.

SUPPLEMENTARY INFORMATION:

Background

The U.S. Air Force requested the FAA to amend the time of designation for the Dare County Range restricted areas by removing the specific published times on Saturday and Sunday. Military use of the restricted areas on Saturday and Sunday would still be available through issuance of a NOTAM six hours in advance. The change reflects current utilization of the restricted areas and increases the availability of the airspace to the public on weekends.

The Rule

This action amends Title 14 Code of Federal Regulations (14 CFR) part 73 by reducing the published time of designation of restricted areas R-5314A, B, C, D, E, F, H, and J, Dare County, NC, by removing the words “0700-1800 local time Saturday-Sunday.” The restricted areas would continue to be available for weekend use by NOTAM issued six hours in advance.

This change reduces the time of designation for the restricted areas thereby increasing public access to the airspace. Because the amendment does not affect the boundaries, designated altitudes, or activities conducted within the restricted area and lessens the burden on the public, notice and public procedures under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with 311c., FAA Order 1050.1E, Environmental Impacts: Policies and Procedures. This airspace action is an administrative change to the descriptions of the affected restricted areas to reduce the time of designation. It does not alter the dimensions, altitudes, or activities conducted within the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.53 [Amended]

2. Section 73.53 is amended as follows:

1. R-5314A Dare County, NC [Amended].

By removing the words “Time of designation. 0600-2400 local time, Monday-Friday; 0700-1800 local time Saturday-Sunday; other times by NOTAM 6 hours in advance,” and inserting the words “Time of designation. 0600-2400 local time, Monday-Friday; other times by NOTAM 6 hours in advance.”

2. R-5314B Dare County, NC [Amended].

By removing the words “Time of designation. 0600-2400 local time, Monday-Friday; 0700-1800 local time Saturday-Sunday; other times by NOTAM 6 hours in advance,” and inserting the words “Time of designation. 0600-2400 local time, Monday-Friday; other times by NOTAM 6 hours in advance.”

3. R-5314C Dare County, NC [Amended].

By removing the words “Time of designation. 0600-2400 local time, Monday-Friday; 0700-1800 local time Saturday-Sunday; other times by NOTAM 6 hours in advance,” and inserting the words “Time of designation. 0600-2400 local time, Monday-Friday; other times by NOTAM 6 hours in advance.”

4. R-5314D Dare County, NC [Amended].

By removing the words “Time of designation. 0600-2400 local time, Monday-Friday; 0700-1800 local time Saturday-Sunday; other times by NOTAM 6 hours in advance,” and inserting the words “Time of designation. 0600-2400 local time, Monday-Friday; other times by NOTAM 6 hours in advance.”

5. R-5314E Dare County, NC [Amended].

By removing the words “Time of designation. 0600-2400 local time, Monday-Friday; 0700-1800 local time Saturday-Sunday; other times by NOTAM 6 hours in advance,” and inserting the words “Time of designation. 0600-2400 local time, Monday-Friday; other times by NOTAM 6 hours in advance.”

6. R-5314F Dare County, NC [Amended].

By removing the words “Time of designation. 0600-2400 local time, Monday-Friday; 0700-1800 local time Saturday-Sunday; other times by NOTAM 6 hours in advance,” and inserting the words “Time of designation. 0600-2400 local time, Monday-Friday; other times by NOTAM 6 hours in advance.”

7. R-5314H Dare County, NC [Amended].

By removing the words “Time of designation. 0600-2400 local time, Monday-Friday; 0700-1800 local time Saturday-Sunday; other times by NOTAM 6 hours in advance,” and inserting the words “Time of designation. 0600-2400 local time, Monday-Friday; other times by NOTAM 6 hours in advance.”

8. R-5314J Dare County, NC [Amended].

By removing the words “Time of designation. 0600-2400 local time, Monday-Friday; 0700-1800 local time Saturday-Sunday; other times by NOTAM 6 hours in advance,” and inserting the words “Time of designation. 0600-2400 local time, Monday-Friday; other times by NOTAM 6 hours in advance.”

Issued in Washington, DC, on October 11, 2011.
Gary A. Norek,
Acting Manager, Airspace, Regulations and ATC Procedures Group.

[FR Doc. 2011-26785 Filed 10-14-11; 8:45 am]

BILLING CODE 4910-13-P